DEPARTMENT OF LABOR

Employment and Training Administration

Work Incentive Grants

AGENCY: Employment and Training Administration (ETA), DOL.

ACTION: Notice of availability of funds; Solicitation for Grant Applications (SGA).

This notice contains all of the necessary information and forms needed to apply for grant funding.

SUMMARY: The U.S. Department of Labor (DOL), Employment and Training Administration (ETA) announces the availability of $20 million to award competitive grants designed to enhance the employability, employment and career advancement of people with disabilities through enhanced service delivery in the new One-Stop delivery system established under the Workforce Investment Act of 1998. The Work Incentive Grant program will provide grant funds to consortia and/or partnerships of public and private non-profit entities working in coordination with a state and/or local One-Stop delivery system to augment the existing programs and services and ensure programmatic access and streamlined, seamless service delivery for people with disabilities.

DATES: Applications will be accepted commencing on the date of publication. The closing date for receipt of applications under this announcement is Tuesday, August 1, 2000, at 4:00 p.m. Eastern Standard Time (EST) at the address below. Telefacsimile (fax), telegraphed, or electronic applications will not be honored.

ADDRESSES: Applications shall be mailed to the U.S. Department of Labor, Employment and Training Administration, Division of Federal Assistance, Attention: Ms. B. Jai Johnson, SGA/DFA 00-107, 200 Constitution Avenue, NW Room S-4203, Washington, DC 20210.

FOR FURTHER INFORMATION CONTACT: Questions should be faxed to Ms. B.Jai Johnson, Grants Management Specialist, Division of Federal Assistance, Fax (202) 219-8739. This is not a toll-free number. All inquiries should include the SGA number (DFA 00-107) and a contact name, fax and phone numbers. This solicitation is also being published on the Internet on the ETA's disability On-line Home Page at wdsc.org/disability, or the ETA homepage at doleta.gov. Award notifications will also be published on the ETA homepage.

SUPPLEMENTARY INFORMATION:

I. Authority

Provisions relating to the One-Stop delivery system are at Section 121, 134(c) of the Workforce Investment Act (29 USC 2841, 2864); Wagner-Peyser Act 53(c)(1) (29 USC 496(c)(1)) and Department of Labor Appropriations Act 2000 (Pub. L. 106-113). Regulations governing the Workforce Investment Act are at 20 CFR parts 660-671. An Interim Final Rule was published in the Federal Register at 64 FR 18662 (Apr. 19,1999) with issuance of final rule planned for the summer of 2000.

II. Background

The Workforce Investment Act of 1998 establishes comprehensive reform of existing Federal job training programs with amendments impacting service delivery under the Wagner Peyser Act, Adult Education and Literacy Act, the Rehabilitation Act and supersedes the Job Training Partnership Act. A number of other Federal programs are also identified as required partners under the One-Stop delivery system with the intention of providing comprehensive services for all Americans to access the information and resources available to them in the development and implementation of their career goals. The intention of the One-Stop system is to establish programs and providers in co-located, coordinated and integrated settings that are coherent and accessible for individuals and businesses alike in approximately 600 workforce investment areas which will be established throughout the nation.

The Workforce Investment Act establishes State and Local Workforce Investment Boards focused on strategic planning, policy development, and oversight of the workforce system with significant authority for the Governor and chief elected officials to build on existing reforms in order to implement innovative and comprehensive workforce investment systems. Although systemic change of the magnitude envisioned by the Workforce Investment Act is a long term process, State and local planning processes are required to be in place by July 1, 2000. The Work Incentive Grants will facilitate model service delivery for people with disabilities involving coordination of the multiple programs and agencies which frequently impact their ability to achieve self-sustaining employment, skill attainment and long range career opportunities. Recognizing that many One-Stop delivery systems may not currently have the capacity to provide comprehensive services to people with disabilities, the Work Incentive Grant is designed to provide seed monies for the enhancement of service delivery in the One-Stop delivery system.

Many people with disabilities are looking to the new workforce investment system to address their employment and training needs in a progressive, enlightened environment with cutting-edge technologies. They also expect the One-Stop delivery system to provide comprehensive services to meet multiple barriers which frequently limit their access to a productive, economically rewarding work life. These may include, but are not limited to, the availability of basic and skill development; vocational skill training or advanced educational opportunities; apprenticeship and entrepreneurial training; transportation assistance to reach training or employment; housing assistance or advise on retaining existing housing upon employment; and access to medical health coverage upon employment.

Additional Background Information

There are approximately 50 million Americans with disabilities, 30 million of whom are of working age. Of the latter, many are relegated to lives of poverty and reliance on public assistance and supports. The economic boom of recent years has had little to no impact on the more than 70% of those with significant disabilities of working age who are not employed. In addition, many people have hidden disabilities which may or may not be recognized or officially diagnosed but which impact their ability to obtain, retain or advance in employment.

Approximately 10 million people with disabilities are recipients or beneficiaries of Supplemental Security Income (SSI) or Social Security Disability Insurance (SSDI). Many other individuals with disabilities receive public assistance under the Temporary Assistance for Needy Families (TANF) program. The benefits or payments to these individuals are generally at or below Federal poverty income levels.

Generally eligibility for Medicaid, access to subsidized housing and other benefits are automatically tied to receipt of SSI or TANF, while Medicare and some other public supports are closely linked to SSDI benefits. Public policy systems, particularly those related to necessary health coverage, have for many years encouraged dependency on income supports and created many obstacles to employment and economic independence.

The loss of health care benefits and other structural disincentives to working and achieving self-sufficient, living wages have been partially addressed in the Ticket to Work and Work Incentives Improvement Act of 1999 (TWWIIA) [Public Law 106-170] which, among other provisions, encourages States to enact expanded and more readily accessible health care coverage for working age individuals with disabilities. Although not authorized under the TWWIIA, the Department of Labor intends for the Work Incentive Grant program to further support the employment objectives of TWWIIA for SSI and SSDI recipients by enhancing the State and local workforce investment system for all people with disabilities.

The Department of Labor has worked with the Social Security Administration (SSA) and the Department of Health and Human Services (HHS) in designing the Work Incentive Grant program, in a coordinated and strategic effort to support the issuance and objectives of separate SSA's cooperative agreement and HHS's grant programs authorized under the TWWIIA. The SSA will be awarding $50,000 to $300,000 grants for a $23 million Planning, Assistance and Outreach program to establish the capacity to provide comprehensive information on work incentives to SSI and SSDI recipients throughout each State. Workforce Investment Boards and One-Stop systems, among other entities, are eligible applicants for the SSA Planning, Assistance and Outreach Cooperative Agreement program. The HHS Medicaid Infrastructure Grant program is authorized for five years with approximately $40 million to be awarded annually to State Medicaid Agencies for establishing Medicaid buy-in opportunities for individuals who are working. Each of the three grant programs is administered separately by its respective agency but are expected to be implemented in Fiscal Year 2000.

The Department of Education also provided input for the requirements of this Solicitation for Grant Application. The Presidential Task Force on Employment of Adults with Disabilities, established under Executive Order 13078, facilitated and provided guidance to this multi-agency process as part of their charge to design a coordinated and aggressive national policy that will bring working-age individuals with disabilities into gainful employment at a rate approaching that of the general population.

III. Submission of Applications

Late Applications. Any application received after the exact date and time specified for receipt at the office designated in this notice will not be considered, unless it is received before awards are made and it—(a) was sent by U.S. Postal Service registered or certified mail not later than the fifth calendar day before the date specified for receipt of applications (e.g., an application submitted in response to a solicitation requiring receipt of applications by the 20th of the month must have been mailed/post marked by the 15th of that month); or (b) was sent by the U.S. Postal Service Express Mail Next Day Service to addressee not later than 5 p.m. the place of mailing two working days prior to the date specified for receipt of applications. The term “working days” excludes weekends and Federal holidays. “Post marked” means a printed, stamped or otherwise placed impression (exclusive of a postage meter machine impression) that is readily identifiable, without further action, as having been supplied or affixed on the date of mailing by an employee of the U.S. Postal Service.

Withdrawal of Applications. Applications may be withdrawn by written notice or telegram (including mail gram) received at any time before an award is made. Applications may be withdrawn in person by the applicant or by an authorized representative thereof, if the representative's identity is made known and the representative signs a receipt of the proposal.

Hand Delivered Proposals. It is preferred that applications be mailed at least five days prior to the closing date. To be considered for funding, hand-delivered applications must be received by 4 p.m., EST, August 1, 2000, at the specified address. Failure to adhere to the above instructions will be basis for a determination of nonresponsiveness. Overnight express mail from carriers other than the U.S. Postal Service will be considered hand-delivered applications and must be received by the above specified date and time.

IV. Funding Availability and Period of Performance

The Department of Labor anticipates awarding 20-40 grants ranging from $500,000 to $1.5 million. The period of performance will be approximately 30 months from the date of execution by the Department. The grant funds would be available for expenditure until June 30, 2003 when the authority for these funds will expire. The Department may make subsequent grant awards, which would extend grant objectives, to the original grantees based on satisfactory performance and the availability of funds.

V. Eligible Applicants

Eligible applicants may be a State and/or Local Workforce Investment Board(s) (State Board/Local Board(s)) established under the Workforce Investment Act or other State/local public entities including, Vocational Rehabilitation, Mental Health, Mental Retardation/Developmental Disability, TANF; and/or a private non-profit organization including, but not limited to Centers for Independent Living (CILs), disability advocacy and provider organizations, federally-funded disability grant entities, and other non-profit organizations which provide services and/or advocacy for people with disabilities; or a consortium thereof.

To the extent practicable and possible, the Department of Labor is encouraging consortia of entities to develop and submit applications under this grant program. If the applicant is not the State or Local Workforce Investment Board, the Board(s) must be a partner in the consortium.

Applications can be statewide in scope. Statewide projects must propose strategies for enhancing and improving services to people with disabilities involving all local workforce investment areas in the State. State-wide grant projects should obtain and provide letters of commitment from local Workforce Investment Boards to the extent possible. However, a statewide project must include the State Workforce Investment Board as a consortium partner, with applicable letters of commitment provided in the application.

Indian and Native American Tribal entities, or consortia of Tribes, may apply for Work Incentive Grants. These would involve coordination of services and enhancements to a One-Stop system approach for people with disabilities in a specific Indian community or covering multiple Tribal entities which may cut across multiple States and/or workforce investment areas. In such cases, letters of commitment from Local Boards may not be applicable. Grants to Indian and Native American tribal grantees are treated differently because of sovereignty and self-governance established under the Indian Self-Determination and Education Assistance Act allowing for the government to government relationship between the Federal and Tribal Governments.

VI. Section Format Requirements for Grant Application

General Requirements

Applicants must submit four (4) copies of their proposal, with original signatures. The Application Narrative must be double-spaced, and on single-sided, numbered pages with the exception of format requirements for the Executive Summary. The Executive Summary must be limited to no more than two single-spaced, single sided pages. A font size of at least twelve (12) pitch is required throughout.

There are three required sections of the application. Requirements for each section are provided in this application package. Applications that fail to meet the requirements will not be considered.

Section I—Project Financial Plan;

Section II—Executive Summary—Project Synopsis

Section III—Project Narrative (including Appendices, not to exceed 40 pages)

Section I. Project Financial Plan

Section I of the application must include the following two required elements: (1) Standard Form (SF) 424, Application for Federal Assistance, and (2) Budget Information Form and budget narrative. All copies of the SF 424 MUST have original signatures of the legal entity applying for grant funding. Applicants shall indicate on the SF 424 the organization's IRS Status, if applicable. According to the Lobbying Disclosure Act of 1995, Section 18, an organization described in Section 501(c)4 of the Internal Revenue Code of 1986 which engages in lobbying activities shall not be eligible for the receipt of federal funds constituting an award, grant, or loan. The Catalog of Federal Domestic Assistance (CFDA) number is 17.207. Section I will not count against the application page limits.

The financial plan must describe all costs associated with implementing the project that are to be covered with grant funds. All costs should be necessary and reasonable according to the Federal guidelines set forth in the “Uniform Administrative Requirements for Grants and Cooperative Agreements to State and Local Governments,” (also known as the “Common Rule”) codified at 29 CFR part 97 (97.22), and “Grants and Agreements with Institutes of Higher Education, Hospitals, and Other Non-Profit Organizations” (also known as OMB Circular A-110), codified at 29 CFR part 95 (95.27).

The financial plan must contain the following parts:

—Completed “SF 424—Application for Federal Assistance” (see Appendix A for required form.)

—Completed “Budget Information Form” by line item for all costs required to implement the project design effectively. (See Appendix B for these required forms.)

—Budget narrative/justification which provides sufficient information to support the reasonableness of the costs included in the budget in relation to the service strategy and planned outcomes.

Please note: Work Incentive Grant project designs which incorporate development, procurement or implementation of information technologies involving linkage, and/or to assure accessible technologies in the One-Stop setting, must provide a 50 percent grantee match for those Work Incentive Grant funds which will be utilized for this (these) purposes. That is, if an applicant intends to use $50,000 in grant funds to develop, procure or implement information technology they must identify $50,000 to be provided by the applicant and/or consortium partner(s). Also, grant funds directed to development, procurement and implementation of these technologies cannot exceed 10% (not including matching funds) of the total grant award. Identification of these funds should be made noted in the remarks section of the Budget Information Sheet and described in the budget narrative/justification, including source of matching funds.

Section II. Executive Summary—Project Synopsis

[Format requirements limited to no more than two single-spaced, single-sided pages]

Each application shall provide a project synopsis which identifies the following:

• The applicant;

• The type of organization the applicant represents;

• Identification of consortium partners and the type of organizations they represent;

• The project service area;

• Whether the service area is an entire local workforce investment area, more than one local area, and/or all local areas in a State;

• The specific areas of focus in the announcement which are addressed by the project;

• The amount of funds requested;

• The planned period of performance;

• The comprehensive strategy proposed for providing seamless service delivery, for addressing the multi-faceted barriers to training and employment which affect people with disabilities, and for improving access for people with disabilities in the generic workforce system;

• The ways in which the proposal is coordinated with a State HHS grant and/or SSA benefits planner grant;

• How counseling and other support needs will be addressed in the One-Stop Center system;

• The actions already taken by the State or Local Workforce Investment Board to address the needs of people with disabilities in the One-Stop delivery system;

• The extent to which the One-Stop facilities and satellite site incorporate physical access for people with disabilities;

• The extent to which Vocational Rehabilitation is integrated or coordinated with the One-Stop delivery system;

• Data on the extent to which people with disabilities have been served under the prior Job Training Partnership Act program and under the Wagner-Peyser Act;

• The level of commitment the applicant and consortium members have to serving people with disabilities; and

• The extent to which the needs of individuals with disabilities from diverse cultural and/or ethnic groups will be addressed.

Section III. Project Narrative

[Format requirements limited to no more than forty (40) double-spaced, single-sided, numbered pages]

Section III of the application, the project narrative, must not exceed forty (40) pages for the Government Requirements/Statement of Work section, as described below in the “Required Content for Work Incentive Grant Applications—Program Year 2000.” The forty (40) page limit includes any Attachments which are provided by the applicant. Letters of general support or recommendation for a proposal should NOT be submitted and will count against the page limits. However, letters of commitment are required from partner/consortia organizations, including State and/or Local Workforce Investment Board(s) clearly stating their intent to provide services and resources to the grant.

VII. Program Scope and Objectives

The Department of Labor, in consultation with the President's Task Force on Employment of Adults with Disabilities, has designed the Work Incentive Grant program to achieve the following objectives:

—Provide seamless service delivery within a One-Stop delivery system for people with a wide range of disabilities which may include both documented and undocumented physical, sensory, developmental/cognitive (e.g., mental retardation and learning disabilities, among others), mental and other health related functional disabilities.

—Maintain a referral source of diverse services and information that commonly impact the employability of people with disabilities, such as transportation, housing, education and training programs, access to technology, and health care coverage;

—Provide model One-Stop service delivery through availability of—

• comprehensive services and programs designed to meet multiple needs and common employment barriers such as a procedures for identifying those individuals with hidden disabilities through appropriate screening and diagnostic testing;

• state-of-the-art, fully accessible technologies and/or other accommodations that would be available for use in the One-Stop setting as well as establishing a process for the availability of accommodations in training settings; and

• knowledgeable, experienced and skilled staff support on a broad range of disability issues.

—Ensure access to knowledgeable benefits counselors who can do the following

• provide information on education and training program options and opportunities available under a broad array of programs such as Adult Education; Individuals with Disability Education Act for those under 22 without a high school degree; Vocational Education and School-to-Work programs;

• address the impact of employment on individual benefits such as SSDI, SSI, TANF, Medicaid, Medicare, subsidized housing, and food stamps;

• provide accurate information on the availability of Social Security work incentive programs and Ticket-to-Work options available to SSDI and SSI recipients;

• make available to employers detailed information on the array of tax benefits and incentives to employers of people with disabilities that provide financial support for workplace modifications and accommodations; and

• leverage the diverse range of program resources that may be critical to successful employment, retention and career advancement such as medical or psychological testing or transportation subsidies available to One-Stop customers in local areas, as applicable.

—Establish and carry out extensive and wide-ranging outreach to the disability community, including those with physical, sensory, developmental/cognitive (mental retardation and learning disabilities, among others), mental and other health related impairments, so that core and Title I workforce services are readily available and welcoming to customers with disabilities;

—Ensure linkages and technical assistance to public and private providers of services to people with disabilities such as centers for independent living; State Developmental Disability Councils; State and local mental health agencies; Federal Social Security Agencies, State Medicaid Agencies, Mental Retardation/Developmental Disabilities Offices, TANF agencies; public special education and adult education programs, private schools and training programs designed to meet the needs of persons with disabilities, and other non-profit organizations which support integration into the One-Stop delivery system and which have knowledge regarding the benefits of employment and training information and services available through the workforce system.

—Develop One-Stop capacity as a valued provider of choice for beneficiaries of SSDI and SSI, and to facilitate One-Stop eligibility to be an Employment Network provider established under provisions of the TWWIIA, which assumes responsibility for coordination and delivery of services under the Ticket to Work program, meets professional and educational qualifications, where applicable, and provides appropriate employment services, vocational rehabilitation services, or other support services either directly or by entering into agreement with a qualified entity.

• Leverage available funds and services, including TANF and public education resources, currently available to individuals with disabilities under a variety of public and private non-profit resources to achieve the individual objectives of these customers; and

• Provides individual customer choice as a primary, key component of program availability and delivery which provide models for how Individual Training Accounts (ITAs) under Title I of WIA, SSA Ticket-to-Work vouchers, Vocational Rehabilitation resources, and other appropriate funding sources can be used to provide seamless service delivery that is responsive to the customer.

—Implement information technologies which may be used to facilitate linkage or consolidation of information or services provided by existing State, local and other Federal program providers; and/or establish innovative accessible technologies in the workforce system to assure universal access to One-Stop information and resources for individuals with disabilities. Please note: Work Incentive Grant project designs which incorporate development, procurement or implementation of information technologies involving linkage, and/or to assure accessible technologies in the One-Stop setting, must provide a 50 percent grantee match for those Work Incentive Grant funds which will be utilized for this (these) purposes. Also, grant funds directed to development, procurement and implementation of these technologies cannot exceed 10% (not including matching funds) of the total grant award.

To the extent appropriate and practicable, the applicant Work Incentive Grant proposals should be developed in coordination with SSA's Benefits Planning, Assistance, and Outreach Cooperative Agreement program and/or HHS's Medicaid Infrastructure Grant program as part of a multi-pronged approach to increase the employment rate of people with disabilities. For example, an applicant for the Work Incentive Grant might consider applying for the SSA Benefit Planning, Assistance and Outreach Cooperative Agreement program, or coordinate with entities who may be applying, with the intent of establishing benefits planning capacity in a One-Stop Center. However, there may be additional strategies to support the Medicaid infrastructure development.

Likewise, the Department is encouraging coordination with formula and competitive Welfare-to-Work grant programs. Coordination should also occur with State/Local five year plans required under Title I of WIA.

The SSA Benefits Planning, Assistance, and Outreach Cooperative Agreement Request for Proposal and HHS Medicaid Infrastructure Grant Request for Application requirements are accessible through ETA's disAbility Online homepage: http://wdsc.org/disability. Additional information and resources are also available at this website.

VIII. Monitoring and Reporting

Monitoring

The Department shall be responsible for ensuring the effective implementation of each competitive grant project in accordance with the provisions of this announcement and the negotiated grant agreement. Applicants should assume that on-site project reviews will be conducted by Department staff, or their designees periodically throughout the implementation of the grant. Reviews will focus on the timely project implementation, performance in meeting the grant's programmatic goals and objectives, expenditure of grant funds on allowable activities, integration and coordination with other resources and service providers in the local area, and project management and administration in achieving project objectives. Work Incentive Grants may be subject to other additional reviews at the discretion of the Department.

Reporting

Grantees will be required to submit periodic financial and participant reports under the Work Incentive Grant program covering the workforce area(s) included in the grant project design. Customer survey information will also be required. Specific reporting requirements have not been established at the time of issuance of this Solicitation for Grant Application. However, data collection will probably incorporate some detailed information about the people with disabilities being served under the grant, by the grant applicant and consortium partners where applicable. To the extent possible, reporting will be conducted electronically through web-based applications.

1. Financial reports will be required on a quarterly basis. This will be the Standard Form 269—Financial Status Report (FSR).

2. Customer Satisfaction Surveys: Customer satisfaction surveys will be required to be conducted with people with disabilities applying for services through the One-Stop delivery system(s) participating in the grant award. The Department of Labor will issue guidelines and reporting instructions related to the Customer Satisfaction Survey process at a later date.

3. Other Reporting: The Department of Labor may require additional reporting requirements, including implementation progress reports and quarterly narrative and/or data reports on participants served in the workforce area(s) included in the grant for grant management and knowledge development purposes. The Department of Labor will issue guidelines and reporting instructions related to progress, narrative and participant reporting at a later date.

IX. Government Requirements/Statement of Work—Project Narrative

The Project Narrative, or Section III, of the grant application should provide complete information on how the applicant will address government requirements and statement of work provisions outlined here, and not to exceed forty (40) double-spaced numbered pages, including appendices. The application should include information of the type described below, as appropriate.

Description of Service Area and Consortium Configuration

Information provided in this section will be evaluated predominately under the “Statement of Need” criteria.

—Identify the number of workforce areas in the State and the jurisdiction of each local workforce investment area(s) in the State.

—Identify what local areas(s) in the State will be covered by the project and whether the project is Statewide, multiple local areas or a single local area.

—Identify consortium members if any, their primary mission irrespective of participation in the grant proposal, and what political and geographic jurisdictions (e.g., cities, counties, subsections of cities/counties) they cover.

—Identify the percent of people with disabilities in the State and/or local area, including the percentage of people who are beneficiaries of SSDI and/or SSI.

—Identify the most recent unemployment rate(s) in the workforce investment area(s) covering the project.

—Describe the significant deficiencies in the State or local workforce investment system that represent barriers to employment for people with disabilities.

—Identify additional State and/or local funds and resources that will be used to support the overall objectives of the grant and which will assist in addressing the identified issues the grant project is addressing.

—For proposals targeted to a specific Indian community or covering multiple Tribal entities which may cut across multiple States and/or local areas, describe the overall approach of the project, identify the inadequacies and deficiencies of the service delivery to the applicable community, and how the project expects to address these.

Disability Related Knowledge and Skills

The Department will evaluate information provided in this section predominately under the “Comprehensive Action Plan/Statement of Need” criteria.

—Describe how the project will address a primary objective of the Work Incentive Grant program to assure the integration of people with disabilities into the workforce investment system, including the availability of WIA Title I programs and services, as well as the many partner programs operating through the One-Stop delivery system.

—Recognizing that the One-Stop delivery system may not have extensive knowledge or skills in working with people with disabilities, describe the level of expertise of the One-Stop system in the local area(s) addressed in the grant and the projects plans for addressing inadequacies.

—Describe the overall status and actions taken to-date by the One-Stop delivery system to address services to people with disabilities. This should include actions to assure State and/or local facilities are physically and programmatically accessible, training provided to staff, the number and percent of people with disabilities receiving services under JTPA and Employment Service programs during the previous three years compared with that of people without disabilities, and plans to increase services to people with disabilities, if applicable.

—Identify the provisions of the Memorandum of Understanding or other agreements between Title I of the WIA, State Vocational Rehabilitation (VR) Agency, the State Rehabilitation Council, and the State and/or local Workforce Investment Board in terms of the provision of services to people with disabilities; the plans for cost sharing; the arrangements for referral of people with disabilities between Title I of the WIA and VR as appropriate; the extent of integration and co-location of VR in One-Stop Centers, including sharing of MIS systems or participation in case management data base technologies; the extent to which there is joint funding of participant services or leveraging of funds to expand access to services; and utilization of Individual Training Accounts (ITA's) for people with disabilities.

—Identify plans and strategies to develop the capacity of the comprehensive One-Stop Center to function as an Employment Network under the TWWIIA. Project plans in this regard should involve building the capacity of the WIA Title I program and One-Stop system so that more in-depth services and information will be readily available to individuals with disabilities. Additionally, the description of increased capacity should be as an adjunct to the State Vocational Rehabilitation Agency which is an automatic Employment Network provider under the TWWIIA. Descriptions may include the planned coordination, interaction and relationship between the universal One-Stop service delivery system and Vocational Rehabilitation services, planned memorandums of understanding on how the Ticket program may be implemented within the One-Stop system or in partnership with non-profit entities in the local area, and expectations for more services directed to SSI and SSDI recipients.

—Identify whether assessment tools are utilized to identify individuals with learning disabilities in the One-Stop delivery system, including (1) whether assessment tools are utilized to identify individuals with learning disabilities in the One-Stop; (2) plans and processes to identify applicable assessment tools, train staff and incorporate such assessments as part of the service delivery structure; and (3) use of individualized, person-driven processes for identification of strengths, needs and desires related to employment.

Summary of Strategy of Collaboration/Coordination

Information provided in this section will be evaluated predominately under the “Comprehensive Service Strategy” and “Collaboration and Coordination” criteria. This should include the identification and interaction of a variety of disability-related organizations and entities. These may include but should not be limited to the following: Independent Living Centers, State Mental Health, Mental Retardation/Developmental Disability Agencies, State Planning Councils on Developmental Disabilities, State Independent Living Councils (SILCs), State Rehabilitation Councils, State Governors' Committee, State Medicaid Agency, State and/or local TANF agency, Vocational Rehabilitation Agency and local Welfare-to-Work Programs.

—Identify specific organizational/service provider capabilities that will be provided as a result of grant activities to ensure the full range of assistance required for receiving and participating in training, skill development, job development, job placement in unsubsidized employment, job retention services and career advancement opportunities for individuals with disabilities.

—Describe the process that will be used to maintain and expand the service structure for individuals with disabilities accessing the workforce investment system after receipt of the grant funds. Describe what linkages are expected to occur that will be sustained over time and what resources various public and private entities will make available in the workforce system that ensure expanded services and integration of people with disabilities.

—Describe the extent to which people with physical and mental disabilities are represented in the development and implementation of plans to improve and enhance One-Stop services for people with disabilities, plans for outreach and marketing to the disability community and organizations which represent or work with people with disabilities; and plans for training disability-related organizations on the resources and programs available to them in the One-Stop system.

—Describe coordination and linkage with regional Disability Business and Technical Assistance Centers (DBTACs) and State Governor's Committees on Employment of People with Disabilities. Have DBTACs provided training to the One-Stop delivery system on the Americans with Disabilities Act (ADA), section 504 of the Rehabilitation Act, or other disability-related training? If not, are plans to do so incorporated into the applicant project?

—Describe coordination and linkage with the State and local Independent Living Center (CIL) system. Are they part of the consortium membership? If not, what outreach is planned to establish linkage with them and their core constituency of people with disabilities?

—Describe coordination and linkage with Mental Health Departments, Mental Retardation/Developmental Disability Agencies, State Councils on Developmental Disabilities, State Vocational Rehabilitation, and Councils on Employment, and other local provider or advocate organizations serving individuals with developmental and/or psychiatric disabilities. Are they part of the consortium membership? If not, what outreach is planned to establish linkage with them and their core constituency of people with disabilities?

—Describe coordination and linkage with Learning Disabilities and Training Dissemination hub centers established under grants from the Department of Education's Office of Vocational and Adult Education. Have these centers provided training to the One-Stop delivery system or are plans to do so incorporated into the applicant project?

—Identify how State TANF programs and Welfare to Work (WtW) competitive grant projects will be linked or leveraged with objectives of the applicant's project. States and local areas have been in the process of implementing numerous WtW projects under formula and discretionary grants. Additionally, many TANF agencies have refocused resources on skill attainment and employment outcomes for TANF recipients. In addition to the fact that many TANF recipients have functional disabilities, many WtW and TANF projects address significant structural barriers to employment which are similar in nature to those facing most individuals with disabilities (e.g., health, housing, transportation). Systems which address these barriers for WtW and TANF recipients can be expanded or leveraged to address similar barriers for people with disabilities.

—Describe how the planned project will be coordinated with grant programs which are funded under the SSA Benefits Planning, Assistance and Outreach Cooperative Agreement and HHS Medicaid Infrastructure Grant programs, if applicable.

Analysis of Barriers to Employment Impacting People With Disabilities in State/Local Workforce Investment Area

The Department will evaluate information provided in this section under “Statement of Need” and “Coordination and Collaboration” criteria.

—Identify public and private non-profit provider entities participating in the grant program and what barriers to employment may be addressed by the programs and services that are contributing to the overall applicant proposal. Specifically, describe how the State or local area is addressing (1) health insurance benefits, including relevant Medicaid and/or Medicare provisions, required by many people with disabilities to enter and retain employment; (2) the current transportation infrastructure, the availability of public transportation, and how individuals with all types of disabilities will access training and employment; (3) housing, food stamps and other support services; and (4) assistive technology needs.

—Describe how public supports needed by people with disabilities may be affected by their employment or training and State or local conditions and actions to sustain benefits and services following successful job placement. For example, does the State or local area have provisions to continue supported or Section 8A housing, where applicable, for individuals who enter unsubsidized employment? Has the State adopted Medicaid “buy-in” options, or are there Medicaid waivers which extend health care coverage for individuals who enter employment?

—If the applicant's proposal does not incorporate the capacity for benefits counselors or planners, what coordination is planned that ensures that individuals with disabilities who access One-Stop Center services will be able to obtain accurate work incentive and benefits information from knowledgeable and skilled staff?

Innovative Strategies and Model One-Stop Service Designs

The Department will evaluate information provided in this section predominately under the “Innovations and Model Services” criteria.

—Describe how the project will provide innovative approaches to increasing competitive, unsubsidized employment to individuals with disabilities.

—Provide information on how the project adds value to the workforce system from a national perspective (e.g., fills a gap in policy or service approach), and the potential for replication and dissemination to the workforce system at large.

—Describe investment plans, strategy and rationale for implementation of innovative technologies, whether to establish linkages with disability related entities or to implement innovative accessible technologies (e.g., video interpreting services for clients who are deaf), including the source(s) of the 50 percent match requirement discussed in Section VI under Project Financial Plan.

—Identify the scope of technology implementations, if applicable, and the extent to which implementation is comprehensive and across the workforce area(s) and/or statewide.

—Identify individualized strategies that establish client control of training funds, VR funds, ITAs, or other funding sources to which these individuals may have access, and co-mingle funds in a seamless, customer friendly manner, including plans for obtaining waiver authority to the extent program requirements necessitate this.

—Identify plans or strategies to deploy Ticket-to-Work voucher provisions for beneficiaries of SSDI and recipients of SSI. At the time of this Solicitation for Grant Application, the requirements for implementation of the Ticket will not have been drafted, nor will the number of pilot States participating in a pilot process known. Therefore, the Department recognizes that descriptions for implementing the Ticket may be limited.

—Describe strategies to foster entrepreneurial and self-employment options utilizing ITAs, Plans for Achieving Self-Support (PASS) and other SSA work incentives, and Medicaid coverage for individuals with disabilities who start or return to work.

—Describe strategies to transition youth with disabilities from school-to-work environments using existing systems such as School-to-Work and One-Stop system infrastructures.

—Identify plans for ensuring competitive, unsubsidized employment for individuals with the most significant disabilities, including how the provision of job development, job carving, job coaching, supported employment, and personal assistance services will be addressed when applicable, and plans to integrate individuals with the most significant disabilities into mainstream workforce settings through individualized job development and placement strategies.

—Provide information on how techniques such as job carving and individualized job development may be utilized under Title I of the WIA, or plans to expand this capability.

Employer Related Linkages

The Department will evaluate this section predominately under the “Innovations and Model Services” criteria.

—Describe specific approaches for developing relationships with and support of area employers which establish employment opportunities for individuals with disabilities accessing the One-Stop delivery system, including any commitments by employers to hire these individuals.

—Describe opportunities for competitive employment for individuals with disabilities will be provided or developed within the local workforce investment area and how this is unique or different than what is normally performed by the applicant(s).

—Identify available Federal and State tax incentives available to employers when hiring an individual with a disability; how this information will be marketed and disseminated to employers, the individual and workforce staff; and how employers may use such tax credits to address structural and technological accommodation needs.

—Describe opportunities for increasing integrated, competitive employment through use of strategies such as individualized job development for individuals with the most significant disabilities currently working in segregated facilities or waiting for employment services.

Implementation and Project Management Plan

The Department will evaluate this section predominately under the “Demonstrated Capability” criteria. Applicants must be able to document that they have systems capable of satisfying the administrative and grant management requirements for Work Incentive Grants.

—Identify the critical activities, time frames and responsibilities for effectively implementing the project, including the management and evaluation process for assuring successful implementation of grant objectives.

—Include a project organizational chart which identifies the staff with key management responsibilities, including a matrix of organizational responsibilities of key entities and participating consortium organizations, where applicable.

—Describe the specific experience of the applicant(s) in serving people with disabilities, in providing workforce services, in addressing specific barriers to employment, in achieving expected outcomes in the delivery of such services/programs, and in implementing and administering specific project plans of the grant project. For example, such information might include the local Department of Transportation as a key partner agency addressing transportation barriers and how this entity has participated in similar efforts in the past and the success of these past efforts, and potential success of coordination on the applicant(s) grant project.

X. Review Process and Evaluation Criteria

A careful evaluation of applications will be made by a technical review panel who will evaluate the applications against the criteria listed below. The panel results are advisory in nature and not binding on the Grant Officer. The Department may elect to award grants either with or without discussion with the offeror. In situations without discussions, an award will be based on the offeror's signature on the SF 424, which constitutes a binding offer. The Grant Officer may consider any information that is available and will make final award decisions based on what is most advantageous to the Government, considering factors such as:

—Panel findings;

—Geographic distribution of the competitive applications;

—The availability of funds.

Criteria

The following criteria, and the weights assigned to each, will apply to the review of the responsiveness of the information requested in this application to this announcement:

1. “Statement of Need”, [15 points] which will consider the scope and targeting of the overall project design to address deficiencies and requirements of the current workforce delivery system.

2. “Comprehensive Service Strategy”, [30 points] which will consider the extent and quality of the applicant's plan to improve and enhance workforce delivery services to people with disabilities.

3. “Collaboration and Coordination”, [20 points] which shall consider the extent and quality of the consortium partnerships that are involved in, and making, substantial contributions to the project, including the commitment to maintain and expand the capacity to serve the target population with local and workforce resources over a sustained period of time.

4. “Innovations and Model Services”, [20 points] which shall consider the extent and degree of innovation represented in the applicant plans which go beyond the expected and predictable availability of accessible facilities and programs for people with disabilities, including innovative accessible technologies implemented on a system wide basis.

5. “Demonstrated Capability”, [15 points] which shall consider the extent to which the applicant and its consortium partners demonstrate the knowledge and skills to address the diverse needs and the diversity in population of people with disabilities, and the extent to which the applicant demonstrates the ability to effectively execute grant management responsibilities.

Signed at Washington, DC, this 22nd day of May, 2000.
Laura Cesario,
Grant Officer.

Appendix A: SF-424

Appendix B: Budget Information Form

BILLING CODE 4510-30-P

[FR Doc. 00-13153 Filed 5-24-00; 8:45 am]

BILLING CODE 4510-30-C